DEPARTMENT OF HEALTH AND HUMAN SERVICES

National Institutes of Health

National Library of Medicine; Cancellation of Meeting

Notice is hereby given of the cancellation of the Board of Scientific Counselors, National Library of Medicine, October 22, 2001, 7:00 p.m. to October 23, 2001, 2:00 p.m., National Library of Medicine, 8600 Rockville Pike, Board Room, Bethesda, MD 20894 which was published in the Federal Register on August 23, 2001, 66 FR 164.

The meeting is cancelled and will be postponed for a later date due to problems with airline flights and attendance.

Dated: September 27, 2001.
LaVerne Y. Stringfield,
Director, Office of Federal Advisory Committee Policy.

[FR Doc. 01-24846 Filed 10-3-01; 8:45 am]

BILLING CODE 4140-01-M